DEPARTMENT OF STATE

[Public Notice 6367]

Advisory Committee on Democracy Promotion (ACDP) Meeting Notice; Notice of Public Meeting

A meeting of the Advisory Committee on Democracy Promotion will be held on Wednesday, October 8, 2008 in Room Number 1105, U.S. Department of State, 2201 C Street, NW., Washington, DC. The meeting will be held from 10:30 a.m.-12 p.m. and will be open to the public, up to the capacity of the meeting room. The Committee members will discuss various issues relating to strategies to promote democratic governance, with Secretary Rice leading the discussion from 11 a.m.-11:30 a.m.

Entry to the main State Department building is controlled and will require advance arrangements. Members of the public wishing to attend this meeting should, by close of business on Friday, October 3, 2008, notify Sam Patten in the Office of the Under Secretary for Democracy and Global Affairs at the contact information indicated below—of their name, date of birth, valid government-issued ID number (see below), and citizenship, in order to arrange admittance. This includes admittance for government employees as well as others.

All attendees must use the “C” Street entrance of the Department, after being screened through the exterior screening facilities, and arrive by 10:15 a.m. One of the following valid IDs will be required for admittance: Any U.S. driver's license with photo, a passport, or a U.S. Government agency ID. Because an escort is required at all times, attendees should expect to remain in the meeting throughout the entire meeting.

For more information, contact Sam Patten, Special Assistant to the Under Secretary for Democracy and Global Affairs, Department of State, Washington, DC 20520, telephone: (202) 647-9108, e-mail pattenws@state.gov.

Dated: September 19, 2008.
Paula Dobriansky,
Under Secretary for Democracy and Global Affairs, Department of State.

[FR Doc. E8-22579 Filed 9-24-08; 8:45 am]

BILLING CODE 4710-18-P